INTERNATIONAL TRADE COMMISSION

[Investigation Nos. 701-TA-365-366 and 731-TA-734-735 (Fifth Review)]

Certain Pasta From Italy and Turkey

Determinations

On the basis of the record ¹ developed in the subject five-year reviews, the United States International Trade Commission (“Commission”) determines, pursuant to the Tariff Act of 1930 (“the Act”), that revocation of the antidumping and countervailing duty orders on certain pasta from Italy and Turkey would be likely to lead to continuation or recurrence of material injury to an industry in the United States within a reasonably foreseeable time.

¹ The record is defined in § 207.2(f) of the Commission's Rules of Practice and Procedure (19 CFR 207.2(f)).

Background

The Commission instituted these reviews on March 1, 2024 (89 FR 15217) and determined on June 4, 2024 that it would conduct expedited reviews (89 FR 59160, July 22, 2024).

The Commission made these determinations pursuant to section 751(c) of the Act (19 U.S.C. 1675(c)). It completed and filed its determinations in these reviews on September 13, 2024. The views of the Commission are contained in USITC Publication 5544 (September 2024), entitled Certain Pasta from Italy and Turkey: Investigation Nos. 701-TA-365-366 and 731-TA-734-735 (Fifth Review).

By order of the Commission.
Issued: September 13, 2024.
Lisa Barton,
Secretary to the Commission.

[FR Doc. 2024-21399 Filed 9-18-24; 8:45 am]

BILLING CODE 7020-02-P